DEPARTMENT OF AGRICULTURE

Natural Resources Conservation Service

Watkins Branch Watershed, Buchanan County, Virginia

AGENCY: Natural Resources Conservation Service (NRCS), USDA.

ACTION: Notice of intent to deauthorize Federal Funding and request for comments.

SUMMARY: NRCS gives notice of the intent to deauthorize Federal funding for the Watkins Branch Watershed project, Buchanan County, Virginia.

DATES: Interested persons are invited to submit comments by May 20, 2019.

ADDRESSES: We invite you to submit comments on this notice. In your comments, include the volume, date, and page number of this issue of the Federal Register. You may submit your comments by the following method:

• Federal eRulemaking Portal Website: Go to http://www.regulations.gov and search for docket ID NRCS-2019-0002. Follow the online instruction for submitting comments electronically.

FOR FURTHER INFORMATION CONTACT: John Bricker, VA State Conservationist, 1606 Santa Rosa Road, Suite 209, Richmond, Virginia 23229. Telephone: (804) 287-1691 or email: Jack.Bricker@va.usda.gov. Also, for specific questions regarding this notice, contact Wade Biddix, (804) 287-1675 or Wade.Biddix@va.usda.gov.

SUPPLEMENTARY INFORMATION: Pursuant to the Watershed Protection and Flood Prevention Act of 1954 (Pub. L. 83-566) and NRCS Guidelines (7 CFR part 622), a determination has been made by John Bricker, NRCS State Conservationist in Virginia, that the proposed works of improvement for the Watkins Branch Watershed project will not be installed. The sponsoring local organizations have concurred in this determination and agree that Federal funding should be deauthorized for the project. Information regarding this determination may be obtained from John Bricker, NRCS State Conservationist at the above contact information.

No administrative action on implementation of the proposed deauthorization will be taken until 60 days after the date of this publication in the Federal Register.

Federal Assistance Programs

The title and number of the Federal assistance programs, as found in the Catalog of Federal Domestic Assistance, to which this NOFA applies is: 10.904 Watershed Protection and Flood.

John A. Bricker,
VA State Conservationist, Natural Resources Conservation Service.

[FR Doc. 2019-05309 Filed 3-20-19; 8:45 am]

BILLING CODE 3410-16-P